FEDERAL COMMUNICATIONS COMMISSION

47 CFR Part 64

[CG Docket No. 10-51; FCC 11-54]

Structure and Practices of the Video Relay Service Program; Correction

AGENCY: Federal Communications Commission.

ACTION: Final rule; correction.

SUMMARY: The Federal Communications Commission (FCC) is correcting a final rule that appeared in the Federal Register of May 2, 2011. The document adopted rules to address fraud, waste, and abuse in the Video Relay Service (VRS) industry.

DATES: Effective June 1, 2011.

FOR FURTHER INFORMATION CONTACT: Diane Mason, Consumer and Governmental Affairs Bureau, Disability Rights Office, at (202) 418-7126 or e-mail Diane.Mason@fcc.gov.

SUPPLEMENTARY INFORMATION: This document makes the following corrections to the final rule published May 2, 2011, at 76 FR 24393:

[Corrected]

1. On page 24393, column 3, revise the DATES section to read as follows:

DATES: Effective June 1, 2011, except § 64.604(b)(4)(iii) of the Commission's rules, which shall become effective August 30, 2011, and the following new provisions §§ 64.604(c)(5)(iii)(C)(2),(3), (4), and (7); 64.604(c)(5)(iii)(M); 64.604(c)(5)(iii)(N)(1)(v); and 64.604(c)(5)(iii)(N)(2) of the Commission's rules; and the required submission for waiver request, which contains new information collection requirements subject to the Paperwork Reduction Act (PRA) that have not been approved by the Office of Management and Budget (OMB). Written comments by the public on the modified and new information collections are due by July 1, 2011. The Commission will publish a document in the Federal Register announcing the effective date of these rules and waiver requirement.

[Corrected]

2. On page 24397, column 2, correct paragraph 18 to read as follows:

18. Lastly, the Commission seeks to reduce the risk that marketing and outreach efforts will continue to be vehicles for manufacturing fraudulent minutes, such as those described above. To the extent an eligible VRS provider contracts with a third party to provide any services or functions related to marketing or outreach, and such services utilize VRS, the costs for such services cannot be compensated from the TRS Fund on a per-minute basis. In addition, all agreements in connection with marketing and outreach activities, including those involving sponsorships, financial endorsements, awards, and gifts made by the provider to any individual or entity, must be described in the providers' annual submissions to the TRS Fund administrator. The Commission recognizes that some companies currently offering VRS through an arrangement with an eligible provider may wish to continue providing this service on their own, yet may require additional time to make adjustments to their operations in order to come into compliance with the new requirements adopted in this Order. To give these entities an opportunity to continue to provide VRS as a subcontractor with an eligible provider until such time as they obtain certification under new procedures to be adopted pursuant to the accompanying FNPRM, the Commission will consider requests for a temporary waiver of the new requirements. A company requesting a waiver of the rules adopted in document FCC 11-54 will have the burden of showing that the waiver is in the public interest, that grant of the waiver request will not undermine the purposes of the rules that we adopt today, and that it will come into compliance with those rules within a short period of time. Applicants requesting to receive a temporary waiver shall provide, in writing, a description of the specific requirement(s) for which it is seeking a waiver, along with documentation demonstrating the applicant's plan and ability to come into compliance with all of these requirements (other than the certification requirement) within a specified period of time, which shall not exceed three months from the date on which the rules become effective. Evidence of the applicant's plan and ability to come into compliance with the new rules shall include the applicant's detailed plan for modifying its business structure and operations in order to meet the new requirements, along with submission of the following relevant documentation to support the waiver request:

• A copy of each deed or lease for each call center operated by the applicant;

• A list of individuals or entities that hold at least a 10 percent ownership share in the applicant's business and a description of the applicant's organizational structure, including the names of its executives, officers, partners, and board of directors;

• A list of all of the names of applicant's full-time and part-time employees;

• Proofs of purchase or license agreements for use of all equipment and/or technologies, including hardware and software, used by the applicant for its call center functions, including but not limited to, automatic call distribution (ACD) routing, call setup, mapping, call features, billing for compensation from the TRS fund, and registration;

• Copies of employment agreements for all of the provider's executives and CAs;

• A list of all financing arrangements pertaining to the provision of Internet-based relay service, including documentation on loans for equipment, inventory, property, promissory notes, and liens;

• Copies of all other agreements associated with the provision of Internet-based relay service; and

• A list of all sponsorship arrangements (e.g., those providing financial support or in-kind interpreting or personnel service for social activities in exchange for brand marketing), including any associated agreements.

[Corrected]

3. On page 24401, column 1, correct § 64.604 (c)(5)(iii)(L)(3) to read as follows: (3) If, the TRS provider submits additional justification for payment of the minutes of use in dispute within two months after being notified that its initial justification was insufficient, the Fund administrator or the Commission will review such additional justification documentation, and may ask further questions or conduct further investigation to evaluate whether to pay the TRS provider for the minutes of use in dispute, within eight months after submission of such additional justification.

Federal Communications Commission.
Marlene H. Dortch,
Secretary.

[FR Doc. 2011-12681 Filed 5-26-11; 8:45 am]

BILLING CODE 6712-01-P